NUCLEAR REGULATORY COMMISSION

[Docket 72-20]

U.S. Department of Energy Three Mile Island 2 Independent Spent Fuel Storage Installation, Materials License No. SNM-2508; Issuance of Environmental Assessment and Finding of No Significant Impact

The U.S. Nuclear Regulatory Commission (NRC or Commission) is considering issuance of an exemption, pursuant to 10 CFR 72.7, from a specific provision of 10 CFR 72.32(a)(12) to the U.S. Department of Energy (DOE) for the Three Mile Island 2 (TMI-2) Independent Spent Fuel Storage Installation (ISFSI) located in Idaho. The requested exemption would allow DOE to deviate from the requirement of 10 CFR 72.32(a)(12) for a biennial onsite emergency preparedness (EP) exercise. The requested exemption would allow the onsite exercise to be performed prior to June 30, 2002, instead of prior to December 31, 2001, which is the expiration of the biennial period for the conduct of an EP exercise at the TMI-2 ISFSI.

Environmental Assessment (EA)

Identification of Proposed Action: By letter dated November 21, 2001, DOE requested an extension of time in which to perform the next onsite biennial EP exercise required by 10 CFR 72.32(a)(12)(i). Staff has considered an exemption from this provision of 10 CFR 72.32(a)(12). DOE holds Materials License No. SNM-2508, issued March 19, 1999, for operation of the TMI-2 ISFSI located within the Idaho National Engineering and Environmental Laboratory (INEEL).

On March 16, 1999, DOE performed the first onsite EP exercise for the TMI-2 ISFSI. The requirement of 10 CFR 72.32(a)(12) is that onsite EP exercises be conducted biennially, that is every other calendar year. With the last performance of the TMI-2 ISFSI EP exercise on March 16, 1999, the next required performance of the exercise would be prior to December 31, 2001. DOE had scheduled its next biennial exercise for September 12, 2001. However, due to the tragic events of September 11, 2001, the exercise was postponed.

By exempting DOE from the provision of 10 CFR 72.32(a)(12) requiring a biennial exercise, DOE will be authorized to delay performance of the biennial onsite EP exercise at the TMI-2 ISFSI until June 30, 2002. The proposed action before the Commission is whether to grant this exemption under 10 CFR 72.7.

Need for the Proposed Action: Conduct of an exercise of an ISFSI's onsite emergency plan every 2 years is required by 10 CFR 72.32(a)(12). The licensee had initially planned to conduct an exercise of its onsite emergency plan on September 12, 2001, within the required 2-year interval. However, due to heavy demands on INEEL security and emergency preparedness resources pursuant to the tragic events of September 11, 2001, and the prospect of continued terrorist threats against the United States, and the need for those resources to remain focused on assessing the security and emergency preparedness/response posture at INEEL, the licensee decided to postpone the exercise.

Environmental Impacts of the Proposed Action: The proposed action involves an administrative activity (a scheduler change in conducting an exercise) unrelated to ISFSI operations.

The last EP exercise was conducted on March 16, 1999. NRC reviews and inspections since the 1999 exercise have not identified a decline in the effectiveness of DOE's emergency response capability. The postponement should have no impact on the effectiveness of DOE's emergency response capability. Moreover, as DOE points out, the re-scheduled exercise may be of more value after any additional security and/or emergency response measures are put into effect in light of the tragic events of September 11, 2001.

The proposed action will not increase the probability or consequences of accidents, no changes are being made in the amounts or types of any effluents that may be released offsite, and there is no increase in occupational or public radiation exposure. Therefore, there are no significant radiological environmental impacts associated with the proposed action.

With regard to potential non-radiological impacts, the proposed action does not affect non-radiological effluents and has no other environmental impact. Therefore, there are no significant non-radiological environmental impacts associated with the proposed action.

Accordingly, the Commission concludes that there are no significant environmental impacts associated with the proposed action.

Alternative to the Proposed Action: As an alternative to the proposed action, the staff considered denial of the proposed action (i.e., the “no-action” alternative). Denial of the application would result in no change in current environmental impacts. The environmental impacts of the proposed action and the alternative action are the same.

Agencies and Persons Consulted: On December 19, 2001, Mr. Doug Walker and Ms. Kathleen Trever of the State of Idaho, INEEL Oversight Program, were contacted about the Environmental Assessment for the proposed action. The state officials had no comments related to the appropriateness of issuance of the exemption, or the Staff's basis for issuance of the exemption. The state officials discussed several comments related to additional information in DOE's letter request dated November 21, 2001, that were unrelated to the Staff's basis for issuance of the exemption. The state officials mentioned they will follow up on those concerns with a letter to DOE, and will provide a copy of that letter to the NRC. However, the state officials agreed that issuance of the exemption need not be delayed due to the unrelated concerns.

Finding of No Significant Impact

On the basis of the environmental assessment, the Commission concludes that the proposed action will not have a significant effect on the quality of the human environment. Accordingly, the Commission has determined not to prepare an environmental impact statement for the proposed action.

The licensee's letter was docketed under 10 CFR part 72, Docket 72-20. For further details with respect to this action, see DOE's request dated November 21, 2001. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 19th day of December, 2001.
Charles L. Miller,
Acting Director, Spent Fuel Project Office, Office of Nuclear Material Safety and Safeguards.

[FR Doc. 01-31804 Filed 12-26-01; 8:45 am]

BILLING CODE 7590-01-P